NATIONAL FOUNDATION ON THE ARTS AND THE HUMANITIES

Institute of Museum and Library Services

2 CFR Part 3187

45 CFR Parts 1180 and 1183

RIN 3137-AA24

Uniform Administrative Requirements, Cost Principles, and Audit Requirements for Federal Awards

AGENCY: Institute of Museum and Library Services (IMLS), NFAH.

ACTION: Final rule.

SUMMARY: The Institute of Museum and Library Services (“IMLS”) finalizes its portion of the uniform federal assistance rule published by the Office of Management and Budget.

DATES: This rule is effective on September 21, 2015.

FOR FURTHER INFORMATION CONTACT: Calvin D. Trowbridge III, Deputy General Counsel, Institute of Museum and Library Services, 1800 M Street NW., 9th Floor, Washington, DC 20036. Email: ctrowbridge@imls.gov. Telephone: (202) 653-4675. Facsimile: (202) 653-4610.

SUPPLEMENTARY INFORMATION: On December 19, 2014, the Office of Management and Budget published an interim final rule that provided comprehensive modifications to the principles and requirements for federal awards. 79 FR 75871. The uniform rules were published as 2 CFR part 200. As part of that rulemaking, IMLS adopted part 200, along with an agency-specific addendum in a new part 3187.

IMLS received no relevant comments in response to the rule. Therefore, 2 CFR part 3187, as described in the interim final rule, is adopted with no changes.

Regulatory Findings

For the regulatory findings regarding this rulemaking, please refer to the analysis prepared by OIRA in the interim final rule, which is incorporated herein. 79 FR at 75876.

Accordingly, the interim rule adding 2 CFR part 3187 and amending 45 CFR parts 1180 and 1183, which was published at 79 FR 75871 on December 19, 2014, is adopted as a final rule without change.

Signed: September 14, 2015.
Andrew Christopher,
Associate General Counsel.

[FR Doc. 2015-23407 Filed 9-18-15; 8:45 am]

BILLING CODE 7036-01-P